DEPARTMENT OF LABOR

Occupational Safety and Health Administration

[Docket No. OSHA-2005-0022]

TÜV SÜD Product Services GmbH: Request for Renewal of Recognition

AGENCY: Occupational Safety and Health Administration (OSHA), Labor

ACTION: Notice.

SUMMARY: This notice announces TÜV SÜD Product Services GmbH's application containing a request for renewal of recognition as a Nationally Recognized Testing Laboratory (NRTL) under 29 CFR 1910.7.

DATES: Submit comments, information, and documents in response to this notice, or requests for an extension of time to make a submission, on or before December 10, 2013.

ADDRESSES: Submit comments by any of the following methods:

1. Electronically: Submit comments and attachments electronically at http://www.regulations.gov, which is the Federal eRulemaking Portal. Follow the instructions online for making electronic submissions.

2. Facsimile: If submissions, including attachments, are not longer than 10 pages, commenters may fax them to the OSHA Docket Office at (202) 693-1648.

3. Regular or express mail, hand delivery, or messenger (courier) service: Submit a copy of comments and any attachments to the OSHA Docket Office, Docket No. OSHA-2005-0022, Technical Data Center, U.S. Department of Labor, 200 Constitution Avenue NW., Room N-2625, Washington, DC 20210; telephone: (202) 693-2350 (TDY number: (877) 889-5627). Note that security procedures may result in significant delays in receiving comments and other written materials by regular mail. Contact the OSHA Docket Office for information about security procedures concerning delivery of materials by express delivery, hand delivery, or messenger service. The hours of operation for the OSHA Docket Office are 8:15 a.m.-4:45 p.m., e.t.

4. Instructions: All submissions must include the Agency name and the OSHA docket number (OSHA-2005-0022). OSHA will place all submissions, including any personal information provided, in the public docket without revision, and these submissions will be available online at http://www.regulations.gov.

5. Docket: To read or download submissions or other material in the docket, go to http://www.regulations.gov or the OSHA Docket Office at the address above. All documents in the docket are listed in the http://www.regulations.gov index; however, some information (e.g., copyrighted material) is not publicly available to read or download through the Web site. All submissions, including copyrighted material, are available for inspection and copying at the OSHA Docket Office. Contact the OSHA Docket Office for assistance in locating docket submissions.

6. Extension of comment period: Submit requests for an extension of the comment period on or before December 10, 2013 to the Office of Technical Programs and Coordination Activities, Directorate of Technical Support and Emergency Management, Occupational Safety and Health Administration, U.S. Department of Labor, 200 Constitution Avenue NW., Room N-3655, Washington, DC 20210, or by fax to (202) 693-1644.

FOR FURTHER INFORMATION CONTACT: David W. Johnson, Director, Office of Technical Programs and Coordination Activities, Directorate of Technical Support and Emergency Management, Occupational Safety and Health Administration, U.S. Department of Labor, 200 Constitution Avenue NW., Room N-3655, Washington, DC 20210, phone (202) 693-2110, or email at johnson.david.w@dol.gov.

SUPPLEMENTARY INFORMATION:

I. Background

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification. OSHA maintains an informational Web site for each NRTL that details its scope of recognition available at http://www.osha.gov/dts/otpca/nrtl/index.html.

The Agency processes applications by an NRTL for renewal of recognition following requirements in Appendix A to 29 CFR 1910.7. OSHA conducts renewals in accordance with the procedures in 29 CFR 1910.7, App. II.C. In accordance with these procedures, NRTLs would submit a renewal request to OSHA, not less than nine months or no more than one year, before the expiration date of its current recognition. A renewal request would include a request for renewal and any additional information the NRTL wishes to submit to demonstrate its continued compliance with the terms of its recognition and 29 CFR 1910.7. If OSHA has not conducted an on-site assessment of the NRTL headquarters and any key sites within the past 18 months, it will schedule the necessary on-site assessments prior to the expiration date of the NRTL's recognition. Upon review of the submitted material and, as necessary, the successful completion of the on-site assessment, OSHA announces its preliminary decision to grant or deny renewal in the Federal Register and solicit comments from the public. OSHA then publishes a final Federal Register notice responding to any comments and renewing the NRTL's recognition for a period of five years, or denying the renewal of recognition.

TÜV SÜD Product Services GmbH (TUVPSG) initially received OSHA recognition as a Nationally Recognized Testing Laboratory on July 20, 2001 (66 FR 38032), for a five-year period ending on July 20, 2006. TUVPSG submitted a timely request for renewal, dated October 10, 2005 (see Exhibit 1), and retained its recognition pending OSHA's final decision in this renewal process. The current address of the TUVPSG facility recognized by OSHA and included as part of the renewal request is TÜV SÜD Product Services GmbH, Ridlerstrasse 65, D-80339, Munich, Germany.

II. Notice of Preliminary Findings

OSHA is providing notice that TUVPSG is applying for renewal of its current recognition as a NRTL. This renewal covers TUVPSG's existing NRTL scope of recognition. TUVPSG submitted an acceptable application for renewal of its recognition as an NRTL on October 10, 2005. OSHA evaluated TUVPSG's application for renewal and preliminarily determined that TUVPSG can continue to meet the requirements prescribed by 29 CFR 1910.7 for recognition. Accordingly, OSHA is making a determination that it does not need to conduct an on-site review of TUVPSG's facilities based on its evaluations of TUVPSG's application and all other available information, including its most recent audit of TUVPSG's facility conducted on April 26, 2013, in which the auditors found TUVPSG to be in conformance with all applicable NRTL requirements. This preliminary finding does not constitute an interim or temporary approval of the application.

OSHA welcomes public comment as to whether TUVPSG meets the requirements of 29 CFR 1910.7 for renewal of their recognition as an NRTL. Comments should consist of pertinent written documents and exhibits. Commenters needing more time to comment must submit a request in writing, stating the reasons for the request. OSHA must receive the written request for an extension by the due date for comments. OSHA will limit any extension to 30 days unless the requester justifies a longer period. OSHA may deny a request for an extension if it is not adequately justified. To obtain or review copies of the publicly available information in TUVPSG's application and other pertinent documents (including exhibits), as well as all submitted comments, contact the Docket Office, Room N-2625, Occupational Safety and Health Administration, U.S. Department of Labor, at the above address; these materials also are available online at http://www.regulations.gov under Docket No. OSHA-2005-0022.

The NRTL Program staff will review all comments to the docket submitted in a timely manner and, after addressing the issues raised by these comments, will recommend whether to grant TUVPSG's application for renewal. The Assistant Secretary will make the final decision on granting the application and, in making this decision, may undertake other proceedings prescribed in Appendix A to 29 CFR 1910.7. OSHA will publish a public notice of this final decision in the Federal Register.

III. Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912, Jan. 25, 2012), and 29 CFR 1910.7.

Signed at Washington, DC, on November 19, 2013.
David Michaels,
Assistant Secretary of Labor for Occupational Safety and Health.

[FR Doc. 2013-28092 FILED 11-22-13; 8:45 am]

BILLING CODE 4510-26-P